DEPARTMENT OF COMMERCE

International Trade Administration

[A-570-848]

Notice of Extension of Time Limit of Final Results of New Shipper Review: Freshwater Crawfish Tail Meat From the People's Republic of China

AGENCY: Import Administration, International Trade Administration, U.S. Department of Commerce.

SUMMARY: The Department of Commerce is extending the time limit of the final results of the new shipper review of the antidumping duty order on freshwater crawfish tail meat from the People's Republic of China until no later than July 13, 2003. The period of review is September 1, 2001, through February 28, 2002. This extension is made pursuant to section 751(a)(2)(B)(iv) of the Tariff Act of 1930, as amended.

EFFECTIVE DATE: May 19, 2003.

FOR FURTHER INFORMATION CONTACT: Douglas Kirby or Thomas Gilgunn, AD/CVD Enforcement, Import Administration, International Trade Administration, U.S. Department of Commerce, 14th Street and Constitution Avenue, N.W., Washington D.C. 20230; telephone: (202) 482-3782 or (202) 482-4236, respectively.

SUPPLEMENTARY INFORMATION:

Statutory Time Limits

Section 751(a)(2)(B)(iv) of the Act requires the Department to issue the final results of a new shipper review within 90 days after the date on which the preliminary results were issued. However, if the Department determines the issues are extraordinarily complicated, section 751(a)(2)(B)(iv) of the Act allows the Department to extend the deadline for the final results to up to 150 days after the date on which the preliminary results were issued.

Background

On March 29, 2002, the Department received a timely request from Weishan Zhenyu Foodstuff Co., Ltd. (Weishan Zhenyu), in accordance with section 751(a)(2)(B) of the Act and section 351.214(c) of the regulations, for a new shipper review of the antidumping duty order on freshwater crawfish tail meat from the People's Republic of China (“PRC”), which has a September anniversary date, and a March semiannual anniversary date. On April 23, 2002, the Department initiated this new shipper review covering the period September 1, 2001, through February 28, 2002. See Freshwater Crawfish Tail Meat From the People's Republic of China: Initiation of New Shipper Antidumping Review (67 FR 21218). On September 26, 2002, the Department extended the preliminary results of this review by 33 days until November 22, 2002. See Freshwater Crawfish Tail Meat From the People's Republic of China: Notice of Extension of Time Limit of Preliminary Results of New Shipper Review (67 FR 60640). On November 1, 2002, the Department extended the preliminary results of this review for an additional 83 days until February 13, 2003. See Notice of Extension of Time Limit of Preliminary Results of New Shipper Review: Freshwater Crawfish Tail Meat From the People's Republic of China (67 FR 66613). On February 13, 2003, the Department issued the preliminary results of this review. See Notice of Preliminary Results of Antidumping Duty New Shipper Review: Freshwater Crawfish Tail Meat from the People's Republic of China 68 FR 7976 (February 19, 2003). In the preliminary results of this review, we indicated that we had requested, but not yet received, information from the U.S. importer of Weishan Zhenyu's new shipper shipment. We also indicated in the preliminary results that we intended to analyze any information provided by the importer for the final results of the new shipper review. We received a response to this request on February 14, 2003, after the signature date of the preliminary results.

Extension of Time Limits for Preliminary Results

Pursuant to section 751(a)(2)(B)(iv) of the Act, the Department may extend the deadline for completion of the final results of a new shipper review if it determines that the case is extraordinarily complicated. The Department has determined that this case is extraordinarily complicated because of the issues that must be addressed, and the final results of this new shipper review cannot be completed within the statutory time limit of 90 days. As stated above, the Department received the questionnaire response from the importer after the preliminary results of this new shipper review were signed. Based on our review of the importer questionnaire response, we find that we need additional information to analyze the bona fides of the sale under review. Consequently, the Department has issued a supplemental questionnaire to the importer to gather additional information. Additionally, the Department may find it necessary to request further information from the respondent in this new shipper review. Therefore, in accordance with section 751(a)(2)(B)(iv) of the Act and section 351.214(i)(2) of the regulations, the Department is extending the time limit for the completion of final results for an additional 60 days. The final results will now be due no later than July 13, 2003.

This notice is published pursuant to sections 751(a)(2)(B) and 777(i)(1) of the Act.

Dated: May 13, 2003.
Barbara E. Tillman,
Acting Deputy Assistant Secretary for Import Administration, Group III.

[FR Doc. 03-12464 Filed 5-16-03; 8:45 am]

BILLING CODE 3510-DS-S